FEDERAL MARITIME COMMISSION

Notice of Request for Additional Information

The Commission gives notice that it has formally requested that the parties to the below listed agreement provide additional information pursuant to 46 U.S.C. 40304(d). This action prevents the agreement from becoming effective as originally scheduled. Interested parties may file comments within fifteen (15) days after publication of this notice in the Federal Register.

Agreement No.: 012274.

Title: OVSA/PIL Space Charter Agreement.

Parties: Hamburg Sud; Hapag-Lloyd AG; CMA CGM S.A./ANL Singapore Pte Ltd. (acting as a single party); and Pacific International Lines (Pte) Ltd.

Dated: June 13, 2014.
By Order of the Federal Maritime Commission.
Karen V. Gregory,
Secretary.

[FR Doc. 2014-14255 Filed 6-17-14; 8:45 am]

BILLING CODE P